DEPARTMENT OF COMMERCE

National Oceanic and Atmospheric Administration

RIN 0648-XG482

North Pacific Fishery Management Council; Public Meeting

AGENCY: National Marine Fisheries Service (NMFS), National Oceanic and Atmospheric Administration (NOAA), Commerce.

ACTION: Notice of public meeting.

SUMMARY: The North Pacific Fishery Management Council (Council) and the Alaska Board of Fisheries will meet October 17, 2018.

DATES: The meeting will be held on Wednesday, October 17, 2018, from 9 a.m. to 5 p.m.

ADDRESSES: The meeting will be held at the Egan Center, 555 W 5th Ave., Anchorage, AK 99501.

Council address: North Pacific Fishery Management Council, 605 W 4th Ave., Suite 306, Anchorage, AK 99501-2252; telephone: (907) 271-2809.

FOR FURTHER INFORMATION CONTACT: David Witherell, Council staff; telephone: (907) 271-2809.

SUPPLEMENTARY INFORMATION:

Agenda

Wednesday, October 17, 2018

The committee will discuss several issues of joint concern including: (a) Status report on Council action on the Salmon Fishery Management Plan re Cook Inlet; (b) status report on Southeast Chinook salmon and management; (c) status of Pacific cod stocks; (d) overview of Total Allowable Catch allocation and Federal management of Bering Sea/Aleutian Islands (BS/AI) cod; (e) update on Council initiative on BSAI cod fishery participation; (f) update on Council action on AI cod community and shoreside processor protections; (g) overview of State management of Pacific cod fisheries; (h) review of State managed Pacific cod proposals; and (i) other business.

The Agenda is subject to change, and the latest version will be posted at http://www.npfmc.org prior to the meeting, along with meeting materials.

Public Comment

Public comment letters will be accepted and should be submitted either electronically to David Witherell, Council staff: david.witherell@noaa.gov or through the mail: North Pacific Fishery Management Council, 605 W 4th Ave., Suite 306, Anchorage, AK 99501-2252. In-person oral public testimony will be accepted at the discretion of the committee.

Special Accommodations

The meeting is physically accessible to people with disabilities. Requests for sign language interpretation or other auxiliary aids should be directed to Shannon Gleason at (907) 271-2809 at least 7 working days prior to the meeting date.

Dated: September 19, 2018.
Tracey L. Thompson,
Acting Deputy Director, Office of Sustainable Fisheries, National Marine Fisheries Service.

[FR Doc. 2018-20716 Filed 9-21-18; 8:45 am]

BILLING CODE 3510-22-P